DEPARTMENT OF TRANSPORTATION

Federal Aviation Administration

14 CFR Part 39

[Docket No. 2004-SW-03-AD]

RIN 2120-AA64

Airworthiness Directives; Bell Helicopter Textron Canada Model 206L-1 and 206L-3 Helicopters

AGENCY: Federal Aviation Administration, DOT.

ACTION: Notice of proposed rulemaking (NPRM).

SUMMARY: This document proposes adopting a new airworthiness directive (AD) for the specified Bell Helicopter Textron Canada (Bell) helicopters. The AD would require a one-time inspection of the adjustable stop screws of the magnetic brake assembly; repairing, as appropriate, certain mechanical damage to the cyclic and collective flight control magnetic brake arm assembly (arm assembly), if necessary; and installing the stop screw with the proper adhesive, adjusting the arm assembly travel and applying slippage marks. This proposal is prompted by reports that the magnetic brake adjustable screws have backed out, which limited travel of the arm assembly. The actions specified by the proposed AD are intended to detect loose adjustable stop screws, that could result in limiting the travel of the cyclic and collective arm assembly, and subsequent loss of control of the helicopter.

DATES: Comments must be received on or before July 12, 2004.

ADDRESSES: Submit comments in triplicate to the Federal Aviation Administration (FAA), Office of the Regional Counsel, Southwest Region, Attention: Rules Docket No. 2004-SW-03-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Charles Harrison, Aviation Safety Engineer, FAA, Rotorcraft Directorate, Rotorcraft Standards Staff, Fort Worth, Texas 76193-0110, telephone (817) 222-5128, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2004-SW-03-AD.” The postcard will be date stamped and returned to the commenter.

Discussion

This document proposes adopting a new AD for Bell Model 206L-1 and 206L-3 helicopters with Instrument Flight Rule (IFR) Kit, part number (P/N) 206-705-001, -101, or -103, installed, and all delivered spare magnetic brakes, P/N 204-001-376-003, manufactured by Memcor Truohm, Inc. (M.T. Inc.) as P/N MP 498-3, installed. The AD would require, within 100 hours time-in-service or within 90 days, whichever occurs first, and before installation of an affected magnetic brake, a one-time inspection of the adjustable stop screws of the magnetic brake assembly; repairing, as appropriate, certain mechanical damage to the arm assembly, if necessary; and installing the stop screw with the proper adhesive, adjusting the arm assembly travel and applying slippage marks. This proposal is prompted by reports that the magnetic brake adjustable screws have backed out, which limited travel of the arm assembly. The actions specified by the proposed AD are intended to detect loose adjustable stop screws, that could result in limiting the travel of the cyclic and collective arm assembly, and subsequent loss of control of the helicopter.

Transport Canada, the airworthiness authority for Canada, notified the FAA that an unsafe condition may exist on Bell Model 206L-1 and 206L-3 helicopters with IFR Kit, P/N 206-705-001, -101, or -103, installed, and all delivered spare magnetic brakes, P/N 204-001-376-003, manufactured by Memcor Truohm, Inc. as P/N MP 498-3. Transport Canada advises that the stop screws, P/N MS51959-3, of the magnetic brake, P/N 204-001-376-003 (Memcor Truohm P/N MP 498-3), were installed without the proper adhesive.

Bell has issued Alert Service Bulletin (ASB) No. 206L-01-122, dated October 3, 2001, which specifies a one-time inspection of the magnetic brake adjustable stop screw, P/N MS51959-3; repairing any arm assembly mechanical damage created by the screws; and installing the stop screw with the proper adhesive and adjusting the arm assembly shaft travel. Transport Canada classified this alert service bulletin as mandatory and issued AD No. CF-2002-16, dated March 4, 2002, to ensure the continued airworthiness of these helicopters in Canada.

This helicopter model is manufactured in Canada and is type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of this type design that are certificated for operation in the United States.

This previously described unsafe condition is likely to exist or develop on other helicopters of the same type design registered in the United States. Therefore, the proposed AD would require inspecting the adjustable stop screws of the magnetic brake assembly, repairing certain mechanical damage to the arm assembly, and installing the stop screw with the proper adhesive, adjusting the arm assembly travel and applying slippage marks. The actions would be required to be accomplished in accordance with the alert service bulletin described previously.

The FAA estimates that 577 helicopters of U.S. registry would be affected by this proposed AD, that it would take approximately 3 work hours per helicopter to accomplish the proposed actions, and that the average labor rate is $65 per work hour. Required parts would cost approximately $3,785. Based on these figures, the total cost impact of the proposed AD on U.S. operators is estimated to be $298,500, assuming that 75 helicopters in the U.S. will require the actions described in this AD.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the economic evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron Canada: Docket No. 2004-SW-03-AD.

Applicability: Model 206L-1 and 206L-3 helicopters with Instrument Flight Rule (IFR) Kit, part number (P/N) 206-705-001, -101, or -103, and a magnetic brake, P/N 204-001-376-003, manufactured by Memcor Truohm, Inc. (M.T. Inc.) as P/N MP 498-3, installed, certificated in any category.

Compliance: Required within 100 hours time-in-service or 90 days, whichever occurs first, and before installation of any affected magnetic brake, unless accomplished previously.

To detect loose adjustable stop screws, which could result in limiting the travel of the cyclic and collective arm assembly, and subsequent loss of control of the helicopter, accomplish the following:

(a) Inspect and, if necessary, repair, adjust, and apply slippage marks to the magnetic brake assembly by following the Accomplishment Instructions, paragraphs 6. through 12., in Bell Helicopter Textron Alert Service Bulletin (ASB) No. 206L-01-122, dated October 3, 2001, except if damage to the arm assembly exceeds 0.030 inch (0.762 mm), replace the magnetic brake assembly with an airworthy magnetic brake assembly. Contacting the manufacturer is not required.

(b) To request a different method of compliance or a different compliance time for this AD, follow the procedures in 14 CFR 39.19. Contact the Safety Management Group, Rotorcraft Directorate, FAA, for information about previously approved alternative methods of compliance.

Note: The subject of this AD is addressed in Transport Canada (Canada) AD No. CF-2002-16, dated March 4, 2002.

Issued in Fort Worth, Texas, on May 3, 2004.
Kim Smith,
Acting Manager, Rotorcraft Directorate, Aircraft Certification Service.

[FR Doc. 04-10745 Filed 5-11-04; 8:45 am]

BILLING CODE 4910-13-P